DEPARTMENT OF DEFENSE

Department of the Army

Chemical and Biological Defense Program Final Programmatic Environmental Impact Statement (CBDP FPEIS)

AGENCY: Department of the Army, DoD.

ACTION: Notice of availability.

SUMMARY: The Army has prepared an FPEIS covering the execution of an integrated CBDP designed to protect the members of the Armed Forces from the evolving chemical and biological (CB) threats they may encounter on the battlefield. The FPEIS includes an evaluation of how the various environmental compliance programs in the military services, the Program Executive Office for Chemical and Biological Defense, and the Defense Advanced Research Projects Agency would be able to mitigate environmental impacts.

DATES: The waiting period for the FPEIS will end 30 days after publication of the Notice of Availability in the Federal Register by the U.S. Environmental Protection Agency

ADDRESSES: Written comments or requests for copies of the FPEIS may be made to: Ms. JoLane Souris, Command Environmental Coordinator, U.S. Army Medical Research and Materiel Command, Office of Surety, Safety, and Environment, 504 Scott Street, Fort Detrick, MD 21702-5012 or visit the CBDP PEIS Web site at http://chembioeis.detrick.army.mil.

FOR FURTHER INFORMATION CONTACT: Ms. JoLane Souris at phone at (301) 619-2004, or by fax at (301) 619-6627.

SUPPLEMENTARY INFORMATION: Prior to 2003, the mission of the DoD CBDP was to provide CB defense capabilities to allow the military forces of the United States to survive and successfully complete their operational missions in battle space environments contaminated with CB warfare agents. Now this mission has expanded to cover military capability to operate in the face of threats in homeland security missions, as well as war fighter missions. If our military forces are not fully and adequately prepared to meet these threats, the consequences could be devastating. The CBDP to support this mission comprises research, development, and acquisition activities. Each of the Military Services, the Joint Program Executive Office for Chemical and Biological Defense, and the Defense Advanced Research Projects Agency conduct CBDP activities. Some of these CBDP activities necessarily involve the use of hazardous chemicals or infectious disease agents for research, development, and production purposes. The controls on and the potential environmental consequences of such use for both the proposed action and the alternative were primary focuses of the CBDP FPEIS.

The activities take place at numerous military installations and contractor facilities throughout the United States. Details concerning the CBDP are contained in the Chemical and Biological Defense Program, Annual Report to Congress, April 2003 at http://www.acq.osd.mil/cp/reports.html. The proposed action consists of the execution of an integrated CBDP designed to protect the members of the Armed Forces from the evolving CB threats they may encounter on the battlefield. The No Action Alternative, continuation of current CBDP operations as described in and covered by existing environmental analyses, also was evaluated. No other alternatives were identified during the public scoping process.

Although numerous environmental documents dating back to the Biological Defense Research Program Final Programmatic Environmental Impact Statement (April 1989) have been prepared analyzing the potential environmental consequences of various elements of the CBDP, no one document analyzes the potential environmental impacts of the full range of CBDP activities. In keeping with the purposes of NEPA, DoD has now prepared such a document in the form of the CBDP FPEIS. This document creates an overarching framework that will continue to ensure fully informed Government decision making within the CBDP and will provide a single, up-to-date information resource for the public. The FPEIS addresses and incorporates comments received on the Draft PEIS during the public comment period.

Dated: July 28, 2004.
Raymond J. Fatz,
Deputy Assistant Secretary of the Army, (Environment, Safety and Occupational Health) OASA (I&E).

[FR Doc. 04-17750 Filed 8-3-04; 8:45 am]

BILLING CODE 3710-08-M